DEPARTMENT OF LABOR

Employment And Training Administration

[TA-W-54,674]

Major League, Inc., Mt. Airy, NC; Notice of Affirmative Determination Regarding Application for Reconsideration

By application of August 3, 2004, a petitioner requested administrative reconsideration of the Department of Labor's Notice of Negative Determination Regarding Eligibility to Apply for Worker Adjustment Assistance, applicable to workers of the subject firm. The denial notice was signed on May 14, 2004, and published in the Federal Register on June 2, 2004 (69 FR 31135).

A previous request for administrative reconsideration was dismissed on July 21, 2004. The Department's Notice of Dismissal of Application for Reconsideration was published in the Federal Register on August 4, 2004 (69 FR 47182).

The Department carefully reviewed the August 3, 2004 request for reconsideration and has determined that the Department will conduct further investigation based on new information provided by the petitioner and the company official.

Conclusion

After careful review of the application, I conclude that the claim is of sufficient weight to justify reconsideration of the Department of Labor's prior decision. The application is, therefore, granted.

Signed at Washington, DC, this 9th day of September, 2004.
Elliott S. Kushner,
Certifying Officer, Division of Trade Adjustment Assistance.

[FR Doc. E4-2304 Filed 9-21-04; 8:45 am]

BILLING CODE 4510-30-P